NATIONAL AERONAUTICS AND SPACE ADMINISTRATION

[Notice (12-066)]

Government-Owned Inventions, Available for Licensing

AGENCY: National Aeronautics and Space Administration.

ACTION: Notice of Availability of Inventions for Licensing.

SUMMARY: Patent applications on the inventions listed below assigned to the National Aeronautics and Space Administration, have been filed in the United States Patent and Trademark Office, and are available for licensing.

DATES: October 30, 2012.

FOR FURTHER INFORMATION CONTACT: Randy Heald, Patent Counsel, Kennedy Space Center, Mail Code CC-A, Kennedy Space Center, FL 32899; telephone (321) 867-7214; fax (321) 867-1817.

NASA Case No.: KSC-13265: Inductive Position Sensor;

NASA Case No.: KSC-12539-3: Self-Healing Wire Insulation;

NASA Case No.: KSC-12978-DIV: Mechanical Alloying of a Hydrogenation Catalyst Used for the Remediation of Contaminated Compounds;

NASA Case No.: KSC-13336: Electrically Conductive Composite Material;

NASA Case No.: KSC-12871: Low-Melt Poly(Amic Acids) and Polyimides and Their Uses;

NASA Case No.: KSC-13285: Method of Fault Detection and Rerouting;

NASA Case No.: KSC-13161: Hydrophobic-Core Microcapsules and their Formation;

NASA Case No.: KSC-12890-2: Aerogel/Polymer Composite Materials;

NASA Case No.: KSC-12890-2-DIV: Aerogel/Polymer Composite Materials;

NASA Case No.: KSC-13331: A Method for Accurately Calibrating a Spectrometer Using Broadband Light;

NASA Case No.: KSC-13343: Inkjet Printing of Conductive Carbon Nanotubes, Inherently Conductive Polymers, and Metal Particle Inks;

NASA Case No.: KSC-12866: In-Situ Wire Damage Detection System;

NASA Case No.: KSC-13278: Elongated Microcapsules and their Formation;

NASA Case No.: KSC-12236-CIP: Flame Suppression Agent, System and Users;

NASA Case No.: KSC-12848-DIV: Foam/Aerogel Composite Materials for Thermal and Acoustic Insulation and Cryogen Storage;

NASA Case No.: KSC-13167: Hydrophilic-Core Microcapsules and their Formation.

Sumara M. Thompson-King,
Acting Deputy General Counsel.

[FR Doc. 2012-26573 Filed 10-29-12; 8:45 am]

BILLING CODE P